DEPARTMENT OF ENERGY

Federal Energy Regulatory Commission

[Docket No. GT01-6-001]

Gulf South Pipeline Company, LP; Notice of Compliance Filing

February 6, 2001.

Take notice that on January 29, 2001, Gulf South Pipeline Company, LP (Gulf South) tendered for filing as part of its FERC Gas Tariff, Sixth Revised Volume No. 1, the following tariff sheets, to become effective December 31, 2000:

First Revised Sheet No. 4000

First Revised Sheet No. 4001

First Revised Sheet No. 4002

Gulf South submitted the above referenced tariff sheets in accordance with the Commission's letter order issued January 22, 2001, in Docket No. GT01-6-000 to reflect its recent name change from Koch Gateway Pipeline Company to Gulf South Pipeline Company, LP.

Any person desiring to protest said filing should file a protest with the Federal Energy Regulatory Commission, 888 First Street, N.E., Washington, D.C. 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3436 Filed 2-9-01; 8:45 am]

BILLING CODE 6717-01-M